DEPARTMENT OF COMMERCE

National Oceanic and Atmospheric Administration

[RTID 0648-XA416]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's (GSMFC) Law Enforcement Committee (LEC).

DATES: The meeting will convene on Monday, September 14, 2020; beginning at 9 a.m. and adjourning no later than 12 p.m., CST.

ADDRESSES: The meeting will be held via webinar. From 9 a.m. to 10 a.m. CST, the meeting will be in closed session. From 10 a.m. to 12 p.m., the meeting will be open and can be accessed using the following link: https://global.gotomeeting.com/join/879119909.

Council address: Gulf of Mexico Fishery Management Council, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630.

SUPPLEMENTARY INFORMATION: The items of discussion on the agenda are as follows:

Joint Gulf Council's Law Enforcement Technical Committee (LETC) and GSMFC's Law Enforcement Committee (LEC) Meeting Agenda, Monday, September 14, 2020, 9 a.m. Until 12 p.m., CST

The joint meeting will begin in closed session with introductions and a discussion of enforcement of recreational red snapper case handling.

The general session will convene at 10 a.m. CST, beginning with introductions, adoption of agenda, and approval of minutes from the Joint LEC/LETC Meeting on March 11, 2020.

The Gulf Council LETC will discuss the call for nominations for the 2020 Officer/Team of the Year award, and discuss any Other Business items.

The GSMFC LEC will review and approve the LETC/LEC 2021-22 Operations Plan; and review the IJF Program Activity for the status of the Red Drum Profile, and Commission Publications. The committee will present the State Report Highlights from Florida, Alabama, Mississippi, Louisiana, Texas, U.S. Coast Guard (USCG), NOAA Office of Law Enforcement (OLE), and U.S. Fish and Wildlife Service (USFWS); and any Other Business items. Written state reports are requested in advance and only highlights will be presented for time purposes during state reporting item.

—Meeting adjourns

The Agenda is subject to change, and the latest version along with other meeting materials will be posted on www.gulfcouncil.org as they become available.

The Law Enforcement Technical Committee consists of principal law enforcement officers in each of the Gulf States, as well as the NOAA OLE, USFWS, the USCG, and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: August 25, 2020.
Tracey L. Thompson,
Acting Deputy Director, Office of Sustainable Fisheries, National Marine Fisheries Service.

[FR Doc. 2020-18966 Filed 8-27-20; 8:45 am]

BILLING CODE 3510-22-P